DEPARTMENT OF THE INTERIOR

National Park Service

Notice of Inventory Completion: The University Museum, University of Arkansas, Fayetteville, AR

AGENCY: National Park Service, Interior.

ACTION: Notice.

Notice is here given in accordance with the Native American Graves Protection and Repatriation Act (NAGPRA), 25 U.S.C. 3003, of the completion of an inventory of human remains in the possession of The University Museum, University of Arkansas, Fayetteville, AR. The human remains were removed from an unknown site presumed to be in Alaska.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by University of Arkansas professional staff in consultation with representatives of the Bering Straits Foundation, a nonprofit organization representing the interests of the Bering Straits Native Corporation. Representatives of the Bristol Bay Native Corporation; Calista Corporation; Koniag, Inc.; NANA Regional Corporation; and North Slope Borough, a governmental organization that represents the interests of Arctic Slope Regional Corporation, were also invited to consult but did not participate.

At an unknown date, human remains representing one individual were recovered from an unknown site presumed to be in Alaska. The human remains had become part of the University of Arkansas collection by 1960. The human remains consist of a skull and lower jaw of an approximately 20- to 34-year-old male. A catalog card identifies the human remains as an “skimo skull.”

Eskimo, a term of uncertain derivation, was widely used to refer to Inupiaq- and Yup'ik-speaking Alaska Native populations of northern and western Alaska. Today, Alaska Natives are represented at the local level by village councils and corporations and at the regional level by regional corporations. The regional corporations with sizeable Inupiaq and Yup'ik populations are the Arctic Slope Regional Corporation; Bering Straits Native Corporation; Bristol Bay Native Corporation; Calista Corporation; Koniag, Inc.; and NANA Regional Corporation.

Officials of the University of Arkansas have determined that, pursuant to 25 U.S.C. 3001 (9-10), the human remains described above represent the physical remains of one individual of Native American ancestry. Officials of the University of Arkansas also have determined that, pursuant to 25 U.S.C. 3001 (2), there is a relationship of shared group identity that can be reasonably traced between the Native American human remains and the Arctic Slope Regional Corporation; Bering Straits Native Corporation; Bristol Bay Native Corporation; Calista Corporation; Koniag, Inc.; and NANA Regional Corporation.

Representatives of any other Indian tribe that believes itself to be culturally affiliated with the human remains should contact Mary Suter, Curator of Collections, The University Museum, University of Arkansas, Museum Building, Fayetteville, AR 72701, telephone (479) 575-3456, before July 21, 2004. Repatriation of the human remains to the Arctic Slope Regional Corporation; Bering Straits Native Corporation; Bristol Bay Native Corporation; Calista Corporation; Koniag, Inc.; and NANA Regional Corporation may proceed after that date if no additional claimants come forward.

The University of Arkansas is responsible for notifying the Arctic Slope Regional Corporation; Bering Straits Foundation; Bering Straits Native Corporation; Bristol Bay Native Corporation; Calista Corporation; Koniag, Inc.; NANA Reugional Corporation; and North Slope Borough that this notice has been published.

Dated: May 11, 2004
John Robbins,
Assistant Director, Cultural Resources.

[FR Doc. 04-13927 Filed 6-18-04; 8:45 am]

BILLING CODE 4310-50-S